ENVIRONMENTAL PROTECTION AGENCY

40 CFR Part 761

[EPA-HQ-RCRA-2008-0123; FRL-8555-9]

RIN 2050-AG42

Polychlorinated Biphenyls: Manufacturing (Import) Exemption for Veolia ES Technical Solutions, LLC

AGENCY: Environmental Protection Agency.

ACTION: Proposed rule; Extension of comment period.

SUMMARY: The Environmental Protection Agency (EPA) is announcing that the comment period to the proposed rule entitled, Polychlorinated Biphenyls: Manufacturing (Import) Exemption for Veolia ES Technical Solutions, LLC published on March 6, 2008 (73 FR 12053) is being extended for 45 days until June 5, 2008. On November 14, 2006, Veolia ES Technical Solutions, LLC (Veolia) submitted a petition to EPA to import up to 20,000 tons of PCB waste from Mexico for disposal at Veolia's TSCA-approved facility in Port Arthur, Texas. EPA is soliciting comments on the proposed decision to grant Veolia's petition. In addition, EPA also received a request to hold an informal public hearing. The Agency grants such a request and will publish another notice in the Federal Register announcing the location and date of the hearing.

DATES: The comment period for this supplemental proposed rule is extended from the original closing date of April 21, 2008, to June 5, 2008.

ADDRESSES: Submit your comments, identified by Docket ID No. EPA-HQ-RCRA-2008-0123 by one of the following methods:

www.regulations.gov: Follow the on-line instructions for submitting comments.

E-mail: Comments may be sent by electronic mail (e-mail) to RCRA-docket@epa.gov, Attention Docket ID No. EPA-HQ-RCRA-2008-0123.

Fax: Fax comments to: 202-566-0270, Attention Docket ID No. EPA-HQ-RCRA 2008-0123.

Mail: Send comments to: OSWER Docket, EPA Docket Center, Mail Code 5305T, Environmental Protection Agency, 1200 Pennsylvania Avenue, NW., Washington DC 20460, Attention Docket ID No. EPA-HQ-RCRA-2008-0123. Please include a total of two copies.

Hand delivery: Deliver comments to: Environmental Protection Agency, EPA Docket Center, Room 3334, 1301 Constitution Avenue, NW., Washington DC, Attention Docket ID No. EPA-HQ-RCRA-2008-0123. Such deliveries are only accepted during the docket's normal hours of operation, and special arrangements should be made for deliveries of boxed information.

Instructions: Direct your comments to Docket ID Number EPA-HQ-RCRA-2008-0123. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, such as CBI or other information whose disclosure is restricted by statute. Certain other material, such as copyrighted material, will be publicly available only in hard copy. Publicly available docket materials are available either electronically in www.regulations.gov or in hard copy at the OSWER Docket, EPA/DC, EPA West, Room 3334, 1301 Constitution Ave., NW., Washington DC. The Public Reading Room is open from 8:30 a.m. to 4:30 p.m. Monday through Friday, excluding legal holidays. The telephone number for the Public Reading Room is (202) 566-1744, and the telephone number for the OSWER Docket is (202) 566-0270.

FOR FURTHER INFORMATION CONTACT: For more detailed information on specific aspects of this rulemaking, contact William Noggle, Office of Solid Waste, Hazardous Waste Identification Division, MC 5304P, Environmental Protection Agency, 1200 Pennsylvania Ave., NW., Washington DC 20460, (703-347-8769) (noggle.william@epa.gov).

SUPPLEMENTARY INFORMATION: We are extending the comment period by 45 days in response to a request from the public. In addition, EPA received a request to hold an informal public hearing. The Agency will publish another notice announcing the location and date of the hearing. As required by 40 CFR 750.18(a), the hearing will begin no sooner than seven (7) days after the close of the comment period.

List of Subjects in 40 CFR Part 761

Environmental protection, Hazardous substances, Labeling, Polychlorinated biphenyls, Reporting and recordkeeping requirements.

Dated: April 15, 2008.
Susan Parker Bodine,
Assistant Administrator for Solid Waste and Emergency Response.

[FR Doc. E8-8560 Filed 4-18-08; 8:45 am]

BILLING CODE 6560-50-P